DEPARTMENT OF ENERGY

Federal Energy Regulatory Commission

Combined Notice of Filings #1

Take notice that the Commission received the following exempt wholesale generator filings:

Docket Numbers: EG17-58-000.

Applicants: Whitney Point Solar, LLC.

Description: Notice of Self-Certification of Exempt Wholesale Generator Status of Whitney Point Solar, LLC.

Filed Date: 2/13/17.

Accession Number: 20170213-5034.

Comments Due: 5 p.m. ET 3/6/17.

Docket Numbers: EG17-59-000.

Applicants: Westside Solar, LLC.

Description: Notice of Self-Certification of Exempt Wholesale Generator Status of Westside Solar, LLC.

Filed Date: 2/13/17.

Accession Number: 20170213-5035.

Comments Due: 5 p.m. ET 3/6/17.

Take notice that the Commission received the following electric rate filings:

Docket Numbers: ER16-505-001.

Applicants: South Central MCN LLC.

Description: Compliance filing: South Central MCN LLC Compliance Filing to be effective 4/1/2016.

Filed Date: 2/10/17.

Accession Number: 20170210-5158.

Comments Due: 5 p.m. ET 3/3/17.

Docket Numbers: ER17-446-002.

Applicants: New York Independent System Operator, Inc.

Description: Compliance filing: Errata Capacity Exports Compliance to be effective 1/29/2017.

Filed Date: 2/10/17.

Accession Number: 20170210-5161.

Comments Due: 5 p.m. ET 3/3/17.

Docket Numbers: ER17-961-000.

Applicants: Northern States Power Company, a Minnesota corporation.

Description: § 205(d) Rate Filing: MMU TOP 539 0.1.0 Agrmt Filing to be effective 4/11/2017.

Filed Date: 2/10/17.

Accession Number: 20170210-5152.

Comments Due: 5 p.m. ET 3/3/17.

Docket Numbers: ER17-962-000.

Applicants: MS Solar 2, LLC.

Description: Baseline eTariff Filing: Baseline new to be effective 4/11/2017.

Filed Date: 2/10/17.

Accession Number: 20170210-5159.

Comments Due: 5 p.m. ET 3/3/17.

Docket Numbers: ER17-963-000.

Applicants: ISO New England Inc.

Description: ISO New England Inc. submits Fourth Quarter 2016 Capital Budget Report.

Filed Date: 2/10/17.

Accession Number: 20170210-5187.

Comments Due: 5 p.m. ET 3/3/17.

Take notice that the Commission received the following electric securities filings:

Docket Numbers: ES17-12-000.

Applicants: Xcel Energy Southwest Transmission Company, LLC.

Description: Supplement (Corrected Exhibits) to January 31, 2017 Application under Section 204 of the Federal Power Act of Xcel Energy Southwest Transmission Company, LLC.

Filed Date: 2/7/17.

Accession Number: 20170207-5232.

Comments Due: 5 p.m. ET 2/21/17.

Docket Numbers: ES17-13-000.

Applicants: Xcel Energy Transmission Development Company, LLC.

Description: Supplement (Corrected Exhibits) to January 31, 2017 Application under Section 204 of the Federal Power Act of Xcel Energy Transmission Development Company, LLC.

Filed Date: 2/7/17.

Accession Number: 20170207-5233.

Comments Due: 5 p.m. ET 2/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2017.
Nathaniel J. Davis, Sr.,
Deputy Secretary.

[FR Doc. 2017-03207 Filed 2-16-17; 8:45 am]

BILLING CODE 6717-01-P